DEPARTMENT OF TRANSPORTATION

Federal Motor Carrier Safety Administration

[Docket No. FMCSA-2006-26367]

Motor Carrier Safety Advisory Committee (MCSAC): Public Meeting

AGENCY: Federal Motor Carrier Safety Administration (FMCSA), DOT.

ACTION: Notice of meeting.

SUMMARY: FMCSA announces that its MCSAC will meet on Monday and Tuesday, June 15-16, 2015, to complete its recommendations concerning the Agency's Beyond Compliance initiative, provide ideas the Agency should consider for updating its strategic plan, and receive a briefing concerning FMCSA's current research projects. The meeting is open to the public and there will be a period of time at the end of each day for the public to submit oral comments.

Times and Dates: The meeting will be held Monday-Tuesday, June 15-16, 2015, from 9 a.m. to 4:30 p.m., Eastern Daylight Time (EDT), at the Hilton Alexandria Old Town, 1767 King Street, Alexandria, VA 22314. Copies of the MCSAC Task Statement and an agenda for the entire meeting will be made available in advance of the meeting at http://mcsac.fmcsa.dot.gov.

FOR FURTHER INFORMATION CONTACT: Ms. Shannon L. Watson, Senior Policy Advisor, Federal Motor Carrier Safety Administration, U.S. Department of Transportation, 1200 New Jersey Avenue SE., Washington, DC 20590, (202) 385-2395, mcsac@dot.gov.

Services for Individuals With Disabilities: For information on facilities or services for individuals with disabilities or to request special assistance at the meeting, please contact Mr. Eran Segev at (617) 494-3174 or eran.segev@dot.gov by Wednesday, June 10, 2015.

SUPPLEMENTARY INFORMATION:

I. Background

MCSAC was established to provide FMCSA with advice and recommendations on motor carrier safety programs and motor carrier safety regulations. MCSAC is composed of up to 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC Web site for additional information about the committee's activities at ­ http://mcsac.fmcsa.dot.gov/.

Voluntary Compliance Task

The truck and motorcoach industries and the DOT have invested significant resources to research, develop, and test strategies and technologies to reduce truck and bus crashes. In September 2014, the Commercial Vehicle Safety Alliance submitted a request to FMCSA to consider initiating a pilot program to investigate the benefits and feasibility of voluntary compliance. Citing research that has been underway for several years, the Agency established an Alternative Compliance initiative the goal of which is to analyze the concept and gather data to support how this concept might be developed and implemented. During its March 2015 meeting, the Agency tasked the MCSAC, with its collective expertise on transportation safety, with identifying options for the motor carrier safety community to promote programs that could improve safety beyond the standards established in FMCSA regulations.

Strategic Plan Discussion

FMCSA is updating its Strategic Plan to align with the new FY2014-FY2018 DOT Strategic Plan that was released in November 2014. The new FMCSA Plan would extend to FY2018; the current Plan ends in FY2016. The revised Plan would include the status on strategies FMCSA employed in the FY2012-FY2016 plan as well as new programs and strategies FMCSA plans to implement by FY2018. FMCSA is presenting an overview of the draft Strategic Plan to the MCSAC to obtain stakeholder feedback. FMCSA plans to publish the updated Strategic Plan by September 30, 2015.

Research and Technology Conversation

FMCSA maintains an active research program to promote the Agency's understanding of factors impacting safe driver behavior and carrier operations. The Agency also examines new technologies for their potential to improve motor carrier safety and the enforcement of commercial motor vehicle safety regulations. At the June 2015 MCSAC meeting, FMCSA plans to present its portfolio of current and planned research activities for committee members' information and comment. FMCSA will also use the opportunity to solicit Committee input on additional areas of safety research.

II. Meeting Participation

Oral comments from the public will be heard during the last half-hour of the meetings each day. Should all public comments be exhausted prior to the end of the specified period, the comment period will close. Members of the public may submit written comments on the topics to be considered during the meeting by Wednesday, June 10, 2015, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Dated: May 27, 2015.
Larry W. Minor,
Associate Administrator for Policy.

[FR Doc. 2015-13482 Filed 6-2-15; 8:45 am]

BILLING CODE 4910-EX-P